FEDERAL COMMUNICATIONS COMMISSION

47 CFR Parts 1, 2, 25, 27 and 101

[GN Docket No. 18-122; FCC 20-22; FRS 17048]

Expanding Flexible Use of the 3.7 to 4.2 GHz Band

AGENCY: Federal Communications Commission.

ACTION: Final rule; corrections and announcement of compliance date.

SUMMARY: In this document, the Commission corrects a typographical error in the 3.7 GHz Report and Order, FCC 20-22, published on April 23, 2020, and announces that the Office of Management and Budget has approved the information collection requirements associated with the rules adopted in the Federal Communications Commission's 3.7 GHz Report and Order, requiring the Relocation Payment Clearinghouse and the Relocation Coordinator to each make real-time, public disclosures of the content and timing of and the parties to communications, if any, from or to applicants in the Commission's auction for overlay licenses in the 3.7 GHz Service, and that compliance with the new rules is now required. This document is consistent with the 3.7 GHz Report and Order, which states that the Commission will publish a document in the Federal Register announcing a compliance date for the new rule sections.

DATES: Effective date: The corrections are effective September 17, 2020.

Compliance date: Compliance with 47 CFR 27.1413(c)(6) and 27.1414(b)(4)(i), published at 85 FR 22804 on April 23, 2020, is required on September 17, 2020.

FOR FURTHER INFORMATION CONTACT: Anna Gentry, Mobility Division, Wireless Telecommunications Bureau, at (202) 418-7769 or Anna.Gentry@fcc.gov.

SUPPLEMENTARY INFORMATION: This document corrects a typographical error in the 3.7 GHz Report and Order, FCC 20-22, published at 85 FR 22804 on April 23, 2020, referencing 47 CFR 27.1413(c)(7) as the rule section for which OMB approval was required, rather than 47 CFR 27.1413(c)(6).

In FR Doc. 2020-05164 appearing on page 22804 in the Federal Register of Thursday, April 23, 2020, the following corrections are made:

1. On page 22804, in the first column, in the DATES section, the reference “27.1413(a)(2) and (3), (b), and (c)(3) and (7)” is corrected to read “27.1413(a)(2) and (3), (b), and (c)(3) and (6).”

2. On page 22804, in the third column, in the first paragraph under the heading “Paperwork Reduction Act,” the reference “27.1413(a)(2) and (3), (b), and (c)(3) and (7)” is corrected to read “27.1413(a)(2) and (3), (b), and (c)(3) and (6).”

3. On page 22860, in the third column, under the section heading “Ordering Clauses,” the reference “27.1413(a)(2) and (3), (b), and (c)(3) and (7)” is corrected to read “27.1413(a)(2) and (3), (b), and (c)(3) and (6)” in both instances where it appears in paragraph 428.

This document also announces that the Office of Management and Budget (OMB) approved the information collection requirements in 47 CFR 27.1413(c)(6) and 27.1414(b)(4)(i), on August 31, 2020. These rules were adopted in the 3.7 GHz Report and Order, FCC 20-22, published at 85 FR 22804 on April 23, 2020. The Commission publishes this document as an announcement of the compliance date for these new rules. OMB approval for all other new or amended rules for which OMB approval is required will be requested, and compliance is not yet required for those rules. Compliance with all new or amended rules adopted in the 3.7 GHz Report and Order that do not require OMB approval is required as of June 22, 2020, see 85 FR 22804 (Apr. 23, 2020).

If you have any comments on the burden estimates listed below, or how the Commission can improve the collections and reduce any burdens caused thereby, please contact Cathy Williams, Federal Communications Commission, Room 1-C823, 445 12th Street SW, Washington, DC 20554, regarding OMB Control Number 3060-1276. Please include the OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on May 5, 2020, for the information collection requirements contained in 47 CFR 27.1413(c)(6) and 27.1414(b)(4)(i). Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirements in 47 CFR 27.1413(c)(6) and 27.1414(b)(4)(i), is 3060-1276.

The foregoing notice is required by the Paperwork Reduction Act of 1995, Public Law 104-13, October 1, 1995, and 44 U.S.C. 3507.

The total annual reporting burdens and costs for the respondents are as follows:

OMB Control Number: 3060-1276.

OMB Approval Date: August 31, 2020.

OMB Expiration Date: August 31, 2023.

Title: 3.7 GHz Band Relocation Coordinator and Relocation Payment Clearinghouse Real-Time Disclosure of Communications Required by Sections 27.1413(c)(6) and 27.1414(b)(4)(i).

Form Number: N/A.

Respondents: Business or other for-profit entities.

Number of Respondents and Responses: 2 respondents; 12 responses.

Estimated Time per Response: 1 hour.

Frequency of Response: On occasion reporting requirement.

Obligation to Respond: Required to obtain or retain benefits. Statutory authority for this information collection is contained in sections 1, 2, 4(i), 4(j), 5(c), 201, 302, 303, 304, 307(e), and 309 of the Communications Act of 1934, as amended, 47 U.S.C. 151, 152, 154(i), 154(j), 155(c), 201, 302, 303, 304, 307(e), 309.

Total Annual Burden: 12 hours.

Total Annual Cost: No cost.

Privacy Act Impact Assessment: No impact(s).

Nature and Extent of Confidentiality: The information collected under this collection will be made publicly available.

Needs and Uses: On February 28, 2020, in furtherance of the goal of releasing more mid-band spectrum into the market to support and enable next-generation wireless networks, the Commission adopted a Report and Order, FCC 20-22 (3.7 GHz Report and Order) in which it reformed the use of the 3.7-4.2 GHz band, also known as the C-Band. The 3.7-4.2 GHz band currently is allocated in the United States exclusively for non-Federal use on a primary basis for Fixed Satellite Service (FSS) and Fixed Service. Domestically, space station operators use the 3.7-4.2 GHz band to provide downlink signals of various bandwidths to licensed transmit-receive, registered receive-only, and unregistered receive-only earth stations throughout the United States. The 3.7 GHz Report and Order calls for the relocation of existing FSS operations in the band into the upper 200 megahertz of the band (4.0-4.2 GHz) and making the lower 280 megahertz (3.7-3.98 GHz) available for flexible-use throughout the contiguous United States through a Commission-administered public auction of overlay licenses in the 3.7 GHz Service that is scheduled to occur later this year, with the 20 megahertz from 3.98-4.0 GHz reserved as a guard band. The Commission adopted a robust transition schedule to achieve an expeditious relocation of FSS operations and ensure that a significant amount of spectrum is made available quickly for next-generation wireless deployments, while also ensuring effective accommodation of relocated incumbent users. The 3.7 GHz Report and Order establishes a deadline of December 5, 2025, for full relocation to ensure that all FSS operations are cleared in a timely manner, but provides an opportunity for accelerated clearing of the band by allowing incumbent space station operators, as defined in the 3.7 GHz Report and Order, to commit to voluntarily relocate on a two-phased accelerated schedule (with additional obligations and incentives for such operators), with a Phase I deadline of December 5, 2021, and a Phase II deadline of December 5, 2023.

The Commission concluded in the 3.7 GHz Report and Order that a neutral, independent third-party Relocation Payment Clearinghouse (RPC) should be established to administer the cost-related aspects of the transition in a fair, transparent manner, mitigate financial disputes among stakeholders, and collect and distribute payments in a timely manner to transition incumbent space station operators out of the 3.7-3.98 GHz band. The Commission also concluded that a Relocation Coordinator (RC) should be appointed to ensure that all incumbent space station operators are relocating in a timely manner, and to be responsible for receiving notice from earth station operators or other satellite customers of any disputes related to comparability of facilities, workmanship, or preservation of service during the transition and notify the Commission of disputes and recommendations for resolution.

To protect the fair and level playing field for applicants to participate in the Commission's auction for overlay licenses in the 3.7 GHz Service, the RPC and the RC are each required to make real-time, public disclosures of the content and timing of and the parties to communications, if any, from or to such applicants, as applicants are defined by the Commission's rule prohibiting certain auction-related communications, 47 CFR 1.2105(c)(5)(i), whenever the prohibition in 47 CFR 1.2105(c) applies to competitive bidding for licenses in the 3.7 GHz Service. See 47 CFR 27.1413(c)(6), 27.1414(b)(4)(i) (as adopted in the 3.7 GHz Report and Order). Under this new information collection, the RPC and the RC will each make the required real-time, public disclosure of any such communications, as necessary.

Federal Communications Commission.
Marlene Dortch,
Secretary.

[FR Doc. 2020-19687 Filed 9-16-20; 8:45 am]

BILLING CODE 6712-01-P